ENVIRONMENTAL PROTECTION AGENCY

40 CFR Parts 302 and 355

[EPA-HQ-SFUND-2002-0010; EPA-HQ-SFUND-2002-0011; FRL-8210-5]

RIN 2050-AE12

Reportable Quantity Adjustments for Carbamates and Carbamate-Related Hazardous Waste Streams; Reportable Quantity Adjustment for Inorganic Chemical Manufacturing Process Waste (K178)

AGENCY: Environmental Protection Agency (EPA).

ACTION: Final rule.

SUMMARY: This rule promulgates adjustments to the reportable quantities under the Comprehensive Environmental Response, Compensation and Liability Act for 28 individual carbamates and five carbamate-related hazardous waste streams and for the inorganic chemical manufacturing process waste K178 from their statutory one-pound reportable quantities. All of the substances are listed as hazardous wastes under the Resource Conservation and Recovery Act, and as hazardous substances under the Comprehensive Environmental Response, Compensation and Liability Act.

DATES: This final rule is effective on September 15, 2006.

ADDRESSES: EPA has established two dockets for this action under Docket ID No. EPA-HQ-SFUND-2002-0010 and EPA-HQ-SFUND-2002-0011. All documents in the dockets are listed on the http://www.regulations.gov Web site. Although listed in the index, some information is not publicly available, e.g., CBI or other information whose disclosure is restricted by statute. Certain other material, such as copyrighted material, is not placed on the Internet and will be publicly available only in hard copy form. Publicly available docket materials are available either electronically through www.regulations.gov or in hard copy at the Superfund Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Superfund Docket is (202) 566-0270.

FOR FURTHER INFORMATION CONTACT: Lynn Beasley, Regulation and Policy Development Division, Office of Emergency Management, Office of Solid Waste and Emergency Response (5104A), Environmental Protection Agency, 1200 Pennsylvania Ave., NW., Washington, DC 20460; telephone number: (202) 564-1965; fax number: (202) 564-2625; e-mail address: beasley.lynn@epa.gov.

SUPPLEMENTARY INFORMATION:

A. Does This Action Apply to Me?

Type of entity | Examples of affected entities
Industry | Manufacturers, handlers, transporters, and other users of carbamates. These substances are often used as insecticides, fungicides, herbicides, accelerators in the vulcanization of rubber, or as chemical intermediates in the manufacture of drugs, pesticides, or resins. In addition, entities that may release K178 waste streams will also be affected.
State, Local, or Tribal Governments | State Emergency Response Commissions, and Local Emergency Planning Committees.
Federal Government | National Response Center, and any Federal agency that may release these carbamates and waste streams.

This table is not intended to be exhaustive, but rather provides a guide for readers regarding entities likely to be regulated by this action. This table lists the types of entities that EPA is now aware could potentially be regulated by this action. Other types of entities not listed in the table could also be regulated. To determine whether your facility, company, business, or organization is regulated by this action, you should carefully examine the changes to 40 CFR parts 302 and 355. If you have questions regarding the applicability of this action to a particular entity, consult the person listed in the preceding FOR FURTHER INFORMATION CONTACT section.

B. Outline of This Preamble

The contents of this preamble are listed in the following outline:

I. Introduction

A. What is the Statutory Authority for This Rulemaking?

B. What Types of Releases Are Exempt From These Reporting Requirements?

II. Background

III. Summary of This Action

A. What Is the Scope of This Rule?

B. What Methodology Did EPA Use To Adjust the RQs of the Individual Carbamates?

1. RQ Adjustment Methodology

2. Final RQ Adjustments

C. What Are the Final Adjusted RQs for the Individual Carbamates?

D. What Methodology Did EPA Use To Assign RQs for the Carbamate-Related Waste Streams?

1. RQ Assignment Methodology for F- and K-Hazardous Waste Streams

2. RQ Assignments for the Carbamate-Related Waste Streams

a. Comment Received on the Proposed RQ Adjustment for K156 and K157

b. Response To Comment—Application of Mixture Rule to Listed Wastes

E. What Conforming Changes Are Made to 40 CFR Table 302.4 and its Appendix A?

F. What Conforming Changes Are Made to 40 CFR Part 355?

G. What Final RQ Is Assigned to the K178 Waste?

1. Comment Received on the Proposed RQ Adjustment for K178

2. Response To Comment—Application of Mixture Rule to Listed Wastes

IV. Statutory and Regulatory Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Energy Effects

I. National Technology Transfer and Advancement Act

J. The Congressional Review Act (5 U.S.C. 801 et seq. as Added by the Small Business Regulatory Enforcement Fairness Act of 1996)

I. Introduction

A. What Is the Statutory Authority for This Rulemaking?

The Comprehensive Environmental Response, Compensation, and Liability Act of 1980 (CERCLA), 42 U.S.C. 9601 et seq., as amended by the Superfund Amendments and Reauthorization Act of 1986, gives the Federal government broad authority to respond to releases or threats of releases of hazardous substances from vessels and facilities. The term “hazardous substance” is defined in section 101(14) of CERCLA by referencing various Federal environmental statutes. For example, the term includes “any hazardous waste having the characteristics identified under or listed pursuant to section 3001 of the Solid Waste Disposal Act * * *,” also known as the Resource Conservation and Recovery Act (RCRA).

Section 102(b) of CERCLA establishes reportable quantities (RQs) of one pound (“statutory RQs”) for releases of most CERCLA hazardous substances. Under section 102(a) of CERCLA, the Administrator of EPA has the authority to adjust these RQs by regulation (“adjusted RQs”).

Under CERCLA section 103(a), the person in charge of a vessel or facility from which a CERCLA hazardous substance is released in a quantity that equals or exceeds its RQ must immediately notify the National Response Center (NRC) of that release. A release is reportable if an RQ or more of the hazardous substance is released within a 24-hour period. (See 40 CFR 302.6.) This reporting requirement serves as a trigger for informing the government of a release so that Federal personnel can evaluate the need for a Federal removal or remedial action and undertake any necessary action in a timely fashion.

In addition to the reporting requirements under CERCLA section 103, section 304 of the Emergency Planning and Community Right-to-Know Act of 1986 (EPCRA), 42 U.S.C. 11001 et seq., requires owners or operators of certain facilities to report releases of extremely hazardous substances (EHSs) and CERCLA hazardous substances to State and local authorities. (See 40 CFR 355.40.) Thus, after the release of an EHS or a hazardous substance in a quantity equal to or greater than its RQ, facility owners or operators must immediately notify the community emergency coordinator for each local emergency planning committee for any area likely to be affected by the release, and the State emergency response commission of any State likely to be affected by the release.

B. What Types of Releases Are Exempt From These Reporting Requirements?

To determine whether you must report the release of a carbamate that equals or exceeds its RQ, you should note that section 103(e) of CERCLA exempts from the notification provisions of CERCLA section 103(a): “* * * the application of a pesticide product registered under the Federal Insecticide, Fungicide, and Rodenticide Act or * * * the handling and storage of such a pesticide product by an agricultural producer.” The legislative history of CERCLA suggests that Congress intended this exemption to apply to the application of a pesticide generally in accordance with the pesticide's purpose.

If a release of a CERCLA hazardous substance meets the criteria under CERCLA section 103(e) for an exemption from reporting to the NRC, the same release is also exempt from the notification requirements to State and local authorities under EPCRA section 304. For this final rule, therefore, the use of carbamates as pesticides in accordance with its use and purpose is not subject to the reporting requirements under CERCLA section 103(e) and EPCRA section 304.

As stipulated by EPA in an earlier final rule (50 FR 13464, Apr. 4, 1985), we do not consider the spill of a pesticide to be an application of the pesticide, nor do we consider a pesticide spill to be in accordance with the pesticide's purpose. Consequently, spills of a carbamate pesticide that equal or exceed an RQ must be reported to the NRC under CERCLA section 103 and to the appropriate State and local authorities under EPCRA section 304.

II. Background

In this final rule, EPA adjusts the statutory one-pound RQs for 28 individual carbamates and five carbamate-related waste streams. The adjustments to these statutory one-pound RQs were proposed in December 2003. (See 68 FR 67916, Dec. 4, 2003.) This final rule includes RQ adjustments not only for individual carbamates, but also for thiocarbamates, dithiocarbamates, carbamoyl oximes, and several other individual substances that are closely related to carbamate production and/or waste generation. The preamble to this final rule refers to all 28 individual substances for which the RQ adjustments are made as “carbamates,” and to the five waste streams as “carbamate-related” waste streams. In addition, EPA is adjusting the statutory one-pound RQ of another hazardous waste stream, K178, which is unrelated to the carbamates addressed in this rule (see Section III.G of this preamble for information regarding K178). A summary of the developments leading up to this final rule as it relates to the carbamate-related substances is provided below.

On November 8, 1984, Congress amended RCRA by enacting the Hazardous and Solid Waste Amendments of 1984 (HSWA), 42 U.S.C. 6901 et seq. In one provision of HSWA—a newly added RCRA section 3001(e)(2)—Congress directed EPA to determine whether several wastes, including wastes generated from the production of carbamates, should be listed as RCRA hazardous wastes. Carbamates are widely used as active ingredients in pesticides, herbicides, insecticides, and fungicides, and in the production of synthetic rubber. Before Congress enacted HSWA in 1984, EPA already had regulated several carbamate substances under RCRA, CERCLA, and other statutes.

Based on our evaluation of the carbamate production wastes, we published a proposal to list 80 carbamate-related substances as RCRA hazardous wastes and as CERCLA hazardous substances. (See 59 FR 9808, Mar. 1, 1994.) The 80 substances included: (1) 70 individual carbamates; (2) six carbamate-related waste streams; and (3) four generic groups of carbamate products or captive intermediates with limited toxicity data.¹ On February 9, 1995, we finalized the listing of 64 of the 80 substances as RCRA hazardous wastes and CERCLA hazardous substances, deferring action on 12 individual substances and the four generic groups of carbamate products or captive intermediates with limited toxicity data included in the March 1994 proposed rule. (See 60 FR 7824, Feb. 9, 1995.) EPA listed a total of 58 individual carbamates and six carbamate-related hazardous waste streams as RCRA hazardous wastes and CERCLA hazardous substances in the February 1995 final rule.² Corrections to minor errors in the February 1995 final rule were later published. (See 60 FR 19165, Apr. 17, 1995 and 60 FR 25619, May 12, 1995.) We also modified our interpretation of the rule as it affected listings for K156 and K157 hazardous wastes. (See 60 FR 41817, Aug. 14, 1995.)

¹ These chemicals with limited toxicity data were divided into structure-toxicity groups (esterase (cholinesterase) inhibiting, other non-cancer toxicity, potentially carcinogenic, and toxic metal (metallocarbamates)). (See 59 FR 9840, Mar. 1, 1994.)

² Independent of the March 1994 proposed and February 1995 final rules, EPA added and adjusted the RQs for six individual carbamates to 40 CFR table 302.4—List of Hazardous Substances and Reportable Quantities, due to their listing under the Clean Air Act, Clean Water Act, or both. The six substances and their Chemical Abstracts Service Registry Numbers (CASRNs) are: carbaryl (CASRN 63-25-2); carbofuran (CASRN 1563-66-2); mercaptodimethur (CASRN 2032-65-7); mexacarbate (CASRN 315-18-4); triethylamine (CASRN 121-44-8); and propoxur (CASRN 114-26-1). We adjusted the RQ for the first five of these six substances in a final rule (50 FR 13456, Apr. 4, 1985) and later adjusted the RQ for the last substance, propoxur, in another final rule (60 FR 30926, Jun. 12, 1995).

On November 1, 1996, the Court of Appeals (D.C. Circuit) ruled that EPA failed to follow proper rulemaking procedures in making some of the carbamate listing determinations in the February 1995 rule. Dithiocarbamate Task Force v. EPA, 98 F.3d 1394 (D.C. Cir. 1996). The court vacated the RCRA hazardous waste and CERCLA hazardous substance listings for 24 ³ of the 58 individual carbamates and one of the six carbamate-related waste streams (K160) included in that rule. The court also vacated three other carbamate-related waste streams (K156, K157, and K158) to the extent that they applied to the chemical 3-iodo-2-propynyl n-butylcarbamate. Under the court decision, the vacated carbamate listings are to be treated as though they had never been in effect.

³ The 24 vacated listings and their Chemical Abstracts Service Registry Numbers (CASRNs) and Hazardous Waste No. (U###) were: Bis(pentamethylene)thiuram tetrasulfide (120-54-7), (U400); Copper, bis(dimethylcarbamodithioato-S,S')-(137-29-1), (U393); Dazomet (533-74-44), (U366); Disulfiram (97-77-8), (U403); Iron, tris(dimethylcarbamodithioato-S,S')-(14484-64-1), (U396); Metam Sodium (137-42-8), (U384); Selenium, tetrakis(dimethyldithiocarbamate) (144-34-3), (U376); Carbamodithioic acid, dimethyl, potassium salt (128-03-0), (U383); Carbamodithioic acid, (hydroxymethyl)methyl-, monopotassium salt (51026-28-9), (U378); Carbamodithioic acid, methyl-, monopotassium salt (137-41-7), (U377); Carbamodithioic acid, dibutyl, sodium salt (136-30-1), (U379); Carbamodithioic acid, diethyl-, sodium salt (148-18-5), (U381); Carbamodithioic acid, dimethyl-, sodium salt (128-04-1), (U382); Carbamodithioic acid, diethyl-, 2-chloro-2-propenyl ester (95-06-7), (U277); Tetrabutylthiuram disulfide (1634-02-2), (U402); Bis(dimethylthiocarbamoyl) sulfide (97-74-5), (U401); Ethyl Ziram (14324-55-1), (U407); Butylate (2008-41-5), (U392); Cycloate (1134-23-2), (U386); EPTC (759-94-4), (U390); Molinate (2212-67-1), (U365); Pebulate (1114-71-2), (U391); Carbamothioic acid, dipropyl-, S-propyl ester (1929-77-7), (U385); and Carbamic acid, butyl-, 3-iodo-2-propynyl ester (55406-53-6), (U375).

To clarify the status of the vacated listings for the regulated community and the public, EPA amended the lists of RCRA hazardous wastes (40 CFR part 261) and CERCLA hazardous substances (40 CFR part 302) to remove the entries for the 24 individual carbamates and one carbamate-related waste stream (K160) that were vacated by the court, and revised the entries for K156, K157, and K158 to indicate that they do not apply to 3-iodo-2-propynyl n-butylcarbamate (62 FR 32974, Jun. 17, 1997). The court's ruling did not change the February 1995 listing of the 34 remaining individual carbamates as RCRA hazardous wastes, which includes the six carbamates that were listed as hazardous substances due to their listing under the Clean Air Act, Clean Water Act, or both. Those listings remain in effect.

Upon the effective date of the February 1995, final rule, the 28 ⁴ remaining individual carbamates and the five carbamate-related hazardous waste streams became hazardous substances under CERCLA section 101(14)(C) and received one-pound statutory RQs. This final rule adjusts the RQs for these 28 individual substances and five waste streams (proposed for adjustment in December 2003) based on criteria that relate to the possibility of harm from the release of each hazardous substance into the environment. EPA is revising the 40 CFR table 302.4—List of Hazardous Substances and Reportable Quantities to reflect these changes and other conforming changes.

⁴ Note: Six of the 34 individual carbamates already have their final adjusted RQs, see FN 2, above.

Diagrams Showing Evolution of This Final Rule
Diagram 1.—Listing RCRA Hazardous Wastes and CERCLA Hazardous Substances
March 1, 1994 Proposed Rule
59 FR 9808
80 Carbamate-Related Substances
RCRA Hazardous Wastes and CERCLA Hazardous Substances
70 Individual Carbamates (Includes 6 individual carbamates with CERCLA RQs adjusted previously under 50 FR 13456 and 60 FR 30926) | 6 Carbamate-Related Waste Streams | 4 Generic Groups.
February 9, 1995 Final Rule
60 FR 7824
64 Carbamate-Related Substances
RCRA Hazardous Wastes and CERCLA Hazardous Substances
This completes the RCRA Hazardous Waste Listing for these substances
58 Individual Carbamates (Action deferred on 12 Individual Carbamates) | 6 Carbamate-Related Waste Streams | 0 Generic Groups (Action deferred on 4 generic groups).

Diagram 2.—November 1, 1996 Court of Appeals Decision
Dithiocarbamate Task Force v. EPA 98 F.3d 1394 (D.C.Cir. 1996)
58 Individual Carbamates (Court vacated 24 individual carbamates) | 6 Carbamate Related Waste Streams (Court vacated 1 waste stream, partially vacated 3 others).
June 17, 1997 Final Rule
62 FR 32974
Amended February 9, 1995 Final Rule to Conform with Court of Appeals Decision
34 Individual Carbamates (Includes 6 individual carbamates with CERCLA RQs adjusted previously under 50 FR 13456 and 60 FR 30926) | 5 Carbamate-Related Waste Streams.

Diagram 3.—RQ Adjustment for CERCLA Hazardous Substances
December 4, 2003 Proposed Rule
68 FR 67916
28 Individual Carbamates (34 individual carbamates less the 6 individual carbamates with RQ adjustments under 50 FR 13456 and 60 FR 30926) | 5 Carbamate-Related Waste Streams.
FINAL RULE
FINAL CERCLA RQ Adjustments for 28 Individual Carbamates and 5
Carbamate-Related Waste Streams

Eleven of the individual substances with RQ adjustments in this final rule are also EPCRA section 302 EHSs. For the names of these 11 substances, see the revisions to Appendices A and B of 40 CFR part 355, included at the end of this final rule. In 1989, we proposed to adjust the RQs for all the EPCRA EHSs.⁵ (See 54 FR 35988, Aug. 30, 1989.) Except for the 11 substances included in this rule, we finalized adjustments to the RQs for all the EHSs at 61 FR 20473, May 7, 1996. The adjusted RQs for these 11 substances are now finalized by this action.

⁵ We used the data from this August 30, 1989, proposed rulemaking, as well as more recent data, to support the RQ adjustments proposed for these 11 substances in this rule.

III. Summary of This Action

A. What Is The Scope of This Rule?

In this final rule, we are adjusting the one-pound statutory RQs for 28 individual carbamates (one of which is adjusted to a final RQ of one-pound) and five carbamate-related waste streams. In addition, EPA is adjusting the one-pound statutory RQ of another hazardous waste stream, K178, which is unrelated to the carbamates addressed in this rule (see Section III.G. of this preamble for information regarding K178). We based these adjustments on specific scientific and technical criteria that relate to the possibility of harm from the release of a CERCLA hazardous substance in certain amounts. RQs are based, in part, on a determination of possible or potential harm, but they are not a determination that releases of a particular amount of a hazardous substance necessarily will harm the public health, welfare, or the environment. The quantity released is just one factor that the Federal government considers when it assesses the need to respond to such a release. Other factors include, but are not limited to, the location of the release, its proximity to drinking water supplies or other valuable resources, and the likelihood of exposure or injury to nearby populations. The RQ adjustments that EPA is finalizing in this final rule will enable us to focus our resources on those releases that are most likely to pose potential threats to public health, welfare, or the environment. These RQ adjustments will also help to relieve the regulated community and emergency response personnel from the burden of making and receiving reports of releases that are unlikely to pose such threats.

B. What Methodology Did EPA Use To Adjust the RQs of the Individual Carbamates?

EPA has wide discretion to adjust the statutory RQs for hazardous substances under CERCLA. Administrative feasibility and practicality are important considerations.

1. RQ Adjustment Methodology

The methodology for adjusting the RQ of an individual hazardous substance begins with an evaluation of its intrinsic physical, chemical, and toxicological properties. These intrinsic properties—called “primary criteria”—are aquatic toxicity, mammalian toxicity (oral, dermal, and inhalation), ignitability, reactivity, chronic toxicity, and potential carcinogenicity.⁶ When there are sufficient data in the scientific literature on the chronic toxicity and/or potential carcinogenicity (two of the six primary criteria) of a hazardous substance, we evaluate and summarize these data in a chemical-specific profile.

⁶ For further information on assigning adjusted RQs to hazardous substances under the primary criteria, see the Technical Background Document to Support Rulemaking Pursuant to CERCLA Section 102, Volume 2, August 1986 (for chronic toxicity), Volume 3, July 1989 (for potential carcinogenicity), and Volume 1, March 1985 (for the four other primary criteria), available for inspection at the Superfund Docket in the EPA Docket Center, (EPA/DC) EPA West, Room B102, 1301 Constitution Ave., NW., Washington, DC. These documents are not available electronically; contact the Superfund Docket and reference, “EPA-HQ-SFUND-2002-0010-0043,” “EPA-HQ-SFUND-2002-0010-0044,” and “EPA-HQ6-SFUND-2002-0010-0042,” respectively.

For each intrinsic property, EPA ranks the hazardous substance on a five-tier scale, associating a specific range of values on each scale with an RQ value of 1, 10, 100, 1,000, or 5,000 pounds. Each hazardous substance may receive several tentative RQ values based on the primary criteria. The lowest of the tentative RQs becomes the “primary criteria RQ” for that substance.

After assigning the primary criteria RQs, EPA evaluates the substances for their susceptibility to certain degradative processes. These natural degradative processes, which we use as “secondary RQ adjustment criteria,” are biodegradation, hydrolysis, and photolysis (BHP). If a hazardous substance, when released into the environment, degrades relatively rapidly to a less hazardous form by one or more of the BHP processes, we generally increase its RQ (as determined by the primary RQ adjustment criteria) by one level.⁷ Conversely, if a hazardous substance degrades to a more hazardous product after its release, we assign an RQ equal to the RQ for the more hazardous substance, which may be one or more levels lower than the RQ for the original substance.

⁷ We do not raise an RQ level based on BHP if the primary criterion RQ is already at its highest possible level (100 pounds for potential carcinogens and 5,000 pounds for all other types of hazardous substances). The secondary adjustment criteria of BHP are not applied to radionuclides.

2. Final RQ Adjustments

Following an extensive review of available scientific literature on the 28 individual carbamates adjusted in this final rule, we found that chronic toxicity profiles were warranted for nine of the 28 carbamates, and that potential carcinogenicity profiles were warranted for six of the 28 carbamates. EPA sought comment on those 15 draft chemical-specific profiles in its December 2003, proposed rule. The Agency received no comment on any of the 15 draft chemical-specific profiles. RQs for several of the substances included in this rule are based, at least in part, on the conclusions drawn in those profiles.

Three carbamates—bendiocarb, benomyl, and thiophanate-methyl—had BHP data that were a sufficient basis for adjusting the primary criteria RQs for these substances. Although several other carbamates (e.g., propham) had BHP data that suggest rapid degradation, the evidence for most of these substances was not conclusive. Therefore, no adjustment to the RQs for the other 25 carbamates was proposed on the basis of BHP.⁸ EPA sought additional degradation data (e.g., data on BOD5 values and on half lives) for these 28 individual substances; ⁹ however, no additional data were submitted in response to this request for comment.

⁸ To review a summary of the BHP data on the 28 carbamates included in this rule, see Exhibit 4-3 of the Technical Background Document to Support Rulemaking Pursuant to CERCLA Section 102, Volume 8, available for inspection at the Superfund Docket in the EPA Docket Center, (EPA/DC) EPA West, Room B102, 1301 Constitution Ave., NW., Washington, DC. This document is not available electronically; contact the Superfund Docket and reference, “EPA-HQ-SFUND-2002-0010-0048.”

⁹ One or more of the following criteria should be met for a hazardous substance to qualify for further RQ adjustment based on BHP: (1) Biodegradation: the substance must have a five-day biochemical oxygen demand (BOD5) that equals or exceeds 50 percent of the theoretical oxygen demand as calculated based on stoichiometric oxidation; and (2) Hydrolysis/Photolysis: the half-life of the substance in the environment must be five days or less. For further information on the methodology for applying BHP, see the Technical Background Document to Support Rulemaking Pursuant to CERCLA Section 102, Volume 1, March 1985, available for inspection at the Superfund Docket in the EPA Docket Center, (EPA/DC) EPA West, Room B102, 1301 Constitution Ave., NW., Washington, DC. This document is not available electronically; contact the Superfund Docket and reference, “EPA-HQ-SFUND-2002-0010-0042.”

EPA could not locate acceptable data on any of the primary or secondary criteria for three of the 28 individual carbamates in this proposed rule (see Table 1). In the past, when the statutory RQs of such data-poor hazardous substances were adjusted, we used data from chemically similar, surrogate substances.¹⁰ Keeping with that practice, we conducted an analysis of other carbamates to identify potential surrogate substances for the three data-poor hazardous substances.

¹⁰ We used surrogate substances for the carbamates with primary criteria data that are chemically similar, based primarily on structural analogy, to the data-poor substances. For further information and examples of EPA's use of surrogate data to adjust RQs of hazardous substances, see Section 2 of the Technical Background Document to Support Rulemaking Pursuant to CERCLA Section 102, Volume 8, available for inspection at the Superfund Docket in the EPA Docket Center, (EPA/DC) EPA West, Room B102, 1301 Constitution Ave., NW., Washington, DC. This document is not available electronically; contact the Superfund Docket and reference, “EPA-HQ-SFUND-2002-0010-0048.”

Table 1 lists the chemically similar carbamates EPA used as surrogates, and the RQs that we proposed and now assign to each data-poor substance based on its chemically similar surrogate.¹¹ We requested primary and secondary criteria data on these three data-poor substances and solicited comment in the December 2003 proposal, as well as the choice of surrogate substances used to adjust the RQs for these three carbamates; however, we received no data or comment on these three data-poor substances or choice of surrogate substances.

¹¹ These three data-poor carbamates also are included in the list of 28 individual carbamates that appear in Table 2. For further information on the three data-poor carbamates and the chemically-similar, surrogate substances that EPA has identified, see Section 3 of the Technical Background Document to Support Rulemaking Pursuant to CERCLA Section 102, Volume 8, available for inspection at the Superfund Docket in the EPA Docket Center, (EPA/DC) EPA West, Room B102, 1301 Constitution Ave., NW., Washington, DC. This document is not available electronically; contact the Superfund Docket and reference, “EPA-HQ-SFUND-2002-0010-0048.”

Table 1.—RQs for the Data-Poor Carbamates
Data-poor carbamate | Surrogate | RQ (pounds)
Bendiocarb phenol | Bendiocarb | 1000
Carbofuran phenol | Carbofuran | 10
Manganese dimethyldithiocarbamate | Ziram | 10

Note that in Table 2 below, we proposed, and now assign as proposed, different RQs for the data-poor carbamate/surrogate pair of Bendiocarb phenol (data-poor carbamate) and Bendiocarb (its surrogate) as shown in Table 1, above. In Table 2, EPA applied the secondary criteria of BHP to adjust the RQ for bendiocarb to 100 pounds. Due to structural differences between the two substances, it was not appropriate to apply the BHP data for bendiocarb to bendiocarb phenol. Therefore, the final adjusted RQ for bendiocarb phenol is 1000 pounds. (see Tables 1 and 2).

C. What Are the Final Adjusted RQs for the Individual Carbamates?

Table 2 lists the chemical names, CASRNs, and final adjusted RQs for the 28 individual carbamates included in this final rule. The final adjusted RQs for 27 of the 28 individual carbamates were raised from their statutory one-pound levels; one of the 28 individual carbamates “Dimetilan” was adjusted to a final RQ of one-pound.

Table 2.—Final Adjusted RQs for 28 Individual Carbamates
Chemical name | CASRN | Final adjusted RQ (pounds)
A2213 | 30558-43-1 | 5000
Aldicarb sulfone | 1646-88-4 | 100
Barban | 101-27-9 | 10
Bendiocarb | 22781-23-3 | 100
Bendiocarb phenol | 22961-82-6 | 1000
Benomyl | 17804-35-2 | 10
Carbendazim | 10605-21-7 | 10
Carbofuran phenol | 1563-38-8 | 10
Carbosulfan | 55285-14-8 | 1000
m-Cumenyl methylcarbamate | 64-00-6 | 10
Diethylene glycol, dicarbamate | 5952-26-1 | 5000
Dimetilan | 644-64-4 | 1
Formetanate hydrochloride | 23422-53-9 | 100
Formparanate | 17702-57-7 | 100
Isolan | 119-38-0 | 100
Manganese dimethyldithiocarbamate | 15339-36-3 | 10
Metolcarb | 1129-41-5 | 1000
Oxamyl | 23135-22-0 | 100
Physostigmine salicylate | 57-64-7 | 100
Physostigmine | 57-47-6 | 100
Promecarb | 2631-37-0 | 1000
Propham | 122-42-9 | 1000
Prosulfocarb | 52888-80-9 | 5000
Thiodicarb | 59669-26-0 | 100
Thiophanate-methyl | 23564-05-8 | 10
Tirpate | 26419-73-8 | 100
Triallate | 2303-17-5 | 100
Ziram | 137-30-4 | 10

D. What Methodology Did EPA Use To Assign RQs for the Carbamate-Related Waste Streams?

In addition to the 28 individual carbamate hazardous substances, we also proposed and now assign RQs for the five carbamate-related RCRA hazardous waste streams (K156, K157, K158, K159, and K161). As described below, the methodology used to assign RQs to the RCRA F- and K-hazardous waste streams differs from the standard methodology used to adjust individual hazardous substances described in Section III.B.1, above.

1. RQ Assignment Methodology for F- and K-Hazardous Waste Streams

The methodology to assign RQs to RCRA F- and K-hazardous waste streams is based on an analysis of the hazardous constituents of the waste streams. Specifically, EPA identifies the constituents of concern in each RCRA hazardous waste stream in 40 CFR part 261, Appendix VII. We then determine the RQ for each constituent within that waste stream and assign the lowest RQ value of the constituents as the RQ for the waste stream. We also used this same methodology to adjust the RQ for K178 (see Section III.G. for more information).

2. RQ Assignments for the Carbamate-Related Waste Streams

In the February 1995 final rule, five carbamate-related waste streams were assigned the statutory one-pound RQ required by CERCLA section 102(b). (See 60 FR 7824, Feb. 9, 1995.) In the December 2003 proposed rule, EPA used its standard methodology for assigning RQs for RCRA waste streams and assigned a one-pound final RQ for waste stream K161 and 10-pound final RQs for the remaining four carbamate-related waste streams (K156, K157, K158, and K159). The assigned RQs are based on the constituent(s) with the lowest RQ within each of the waste streams. This rule assigns the final RQs to each of the five carbamate-related hazardous waste streams as proposed. Table 3 lists the constituents and constituent RQs of each of the five carbamate-related hazardous waste streams.

Table 3.—Constituents of Five Carbamate-Related Waste Streams
Carbamate waste stream constituents | RQ (pounds)
K156 | 10
benomyl | 10
carbaryl | 100
carbendazim | 10
carbofuran | 10
carbosulfan | 1000
formaldehyde | 100
methylene chloride | 1000
triethylamine | 5000
K157 | 10
carbon tetrachloride | 10
formaldehyde | 100
methyl chloride | 100
methylene chloride | 1000
pyridine | 1000
triethylamine | 5000
K158 | 10
benomyl | 10
carbendazim | 10
carbofuran | 10
carbosulfan | 1000
chloroform | 10
methylene chloride | 1000
K159 | 10
benzene | 10
butylate | 100
EPTC | 1000
molinate | 10
pebulate | 100
vernolate | 100
K161 | 1
antimony | 5000
arsenic | 1
metam sodium | 10
ziram | 10

a. Comment Received on the Proposed RQ Adjustment for K156 and K157

In response to the proposed rule, 68 FR 67916, Dec. 4, 2003, EPA received one comment ¹² regarding the 10-pound RQ assigned to K156 and K157. The commenter represents a manufacturer of carbamate products and is familiar with EPA's 1994 RCRA carbamate rulemaking process. The commenter would like to see higher RQs assigned for the K156 and K157 process wastes, although he acknowledges the Agency's policies in assigning RQs for waste streams.

¹² You can view the full comment (e-mail) by going to: www.regulations.gov, clicking on “Advanced Search” in the bar at the top of the page, then “Document Search.” Search for the document, “EPA-HQ-SFUND-2002-0010-0115.”

The commenter also requested that, “EPA provide clear guidance and examples of how the CERCLA RQ mixture rule applies to reporting scenarios where the waste is K156 or K157, but contains none of the above constituents, or contains one or more of these constituents at known concentrations.”

b. Response To Comment—Application of Mixture Rule to Listed Wastes

Since the commenter did not provide any information to support a higher RQ for EPA Hazardous Waste Nos. K156 and K157, we are maintaining the 10 pound RQ for these two hazardous substances. With respect to the mixture rule, 40 CFR 302.6(b)(1) provides notification requirements where the quantity of all of the hazardous constituents of the mixture or solution is known and where the quantity of one or more of the hazardous constituent(s) of the mixture or solution is unknown.

Note: The Agency has issued guidance on applying the mixture rule for reporting purposes (EPA publication, “Questions and Answers on Release Notification Requirements and Reportable Quantity Adjustments,” specifically questions 37-40 and Exhibit 1—Mixture Rule Scenarios.) ¹³

¹³ You can view this publication by going to: www.regulations.gov, clicking on “Advanced Search” in the bar at the top of the page, then “Document Search.” Search for the document, “EPA-HQ-SFUND-2002-0010-0115.”

Application of the mixture rule may be most useful when the concentration levels of all the hazardous constituents in a particular carbamate waste stream are known and when an RQ or more of any hazardous constituent is released. For the carbamate waste streams addressed in this rule, appropriate use of the mixture rule may help reduce the burden of notification requirements for the regulated community, while adequately protecting public health and welfare and the environment.

E. What Conforming Changes Are Made to 40 CFR Table 302.4 and Its Appendix A?

EPA is modifying the entries in 40 CFR table 302.4—List of Hazardous Substances and Reportable Quantities, for the carbamates added by the February 1995, final rule. Specifically, we are revising the entries for the chemical names of the carbamates in the “Hazardous substance” column of table 302.4 to reflect the chemical names for these substances as they appear in the RCRA tables of hazardous wastes at 40 CFR 261.33(e) and (f).

For example, the February 1995, final rule lists two names for each individual carbamate in table 302.4—a chemical name and a synonym in parenthesis. However, whereas that final rule alphabetically lists these two names as separate entries in the RCRA tables of hazardous wastes in 40 CFR 261.33, it only adds one entry for each carbamate to the list of hazardous substances.

Because each of the 28 individual carbamates included in this final rule has at least two separate entries in the RCRA tables of hazardous wastes, we are listing each of them as separate entries in table 302.4. To effectuate this change, this rule removes the previously listed names for these hazardous substances and adds the chemical names and synonyms as separate entries in table 302.4. We believe that these changes to table 302.4 will improve consistency between the chemical lists under RCRA and CERCLA and help to make carbamate synonyms easier to find in the tables.

We have also made these conforming changes to entries in Appendix A to table 302.4 for the 28 carbamates added to table 302.4, by the February 1995, final rule.

F. What Conforming Changes Are Made to 40 CFR part 355?

Appendices A and B of 40 CFR part 355 list EHSs and their threshold planning quantities (TPQs) under EPCRA and their CERCLA RQs, where applicable. Eleven of the individual carbamates with RQs adjusted by this final rule are also EHSs and CERCLA hazardous substances. In this final rule, EPA is revising Appendices A and B of 40 CFR part 355 to include those adjusted RQs. You can see the revisions to Appendices A and B at the end of this final rule for the names of the individual carbamates.

G. What Final RQ Is Assigned to the K178 Waste?

Section III.D.1 above describes the Agency's standard methodology for assigning RQs for RCRA F- and K-hazardous waste streams, a process that is based on an analysis of the hazardous constituents of each waste identified in 40 CFR part 261, Appendix VII. We determine an RQ for each constituent and establish the lowest RQ value of all of the constituents as the assigned RQ for the hazardous waste stream. When there are hazardous constituents identified in the waste stream that are not individual CERCLA hazardous substances, EPA develops an RQ for those constituents in order to assign an appropriate RQ to the waste stream. (See 48 FR 23552, May 25, 1983.) In other words, we derive the RQ for a RCRA hazardous waste stream based on the lowest RQ of all of the hazardous constituents identified for that waste in Appendix VII of 40 CFR Part 261, regardless of whether all of the constituents are CERCLA hazardous substances.

In September 2000, EPA published a proposed rule to list three waste streams from the inorganic chemical manufacturing industry as RCRA hazardous wastes in 40 CFR 261.32 and as CERCLA hazardous substances in 40 CFR 302.4. (See 65 FR 55684, Sept. 14, 2000.) In that rule, we proposed to adjust the statutory one-pound RQ for two of the three waste streams, K176 and K177. Waste stream K178 contained two hazardous constituents: thallium, which is a CERCLA hazardous substance with a 1,000-pound RQ, and manganese, which is not a CERCLA hazardous substance identified in 40 CFR 302.4 and does not have an RQ. Because EPA did not develop an RQ for manganese in time for the September 2000, proposed rule, we did not propose to adjust the statutory one-pound RQ for K178 in that rule.

Numerous commenters to the September 2000, proposed rule objected to using manganese as a basis for listing K178 as a hazardous waste, citing potential adverse impacts to many industries. Although EPA believed that manganese poses significant issues that ultimately should be resolved, the court-ordered schedule for the hazardous waste listings provided no flexibility to address those issues fully before finalizing the listings. For that reason, in the November 2001, final rule, EPA deferred final action on adding manganese to Appendix VII of 40 CFR part 261 as a basis for listing K178 as a hazardous waste. (See 66 FR 58258, Nov. 20, 2001.) The final hazardous waste listing for K178 was based solely on thallium.¹⁴ As a result, we proposed an RQ of 1,000 pounds for the K178 waste stream, which is based on the constituent RQ for thallium. This rule assigns the final RQ for the K178 waste stream as proposed.

¹⁴ Note that EPA also modified the listing description in the November 2001 final rule to read, “Residues from manufacturing and manufacturing-site storage of ferric chloride from acids formed during the production of titanium dioxide using the chloride-ilmenite process.”

a. Comment Received on the Proposed RQ Adjustment for K178

In response to the proposed rule published in December 2003, EPA received one comment¹⁵ regarding the 1,000-pound RQ assigned to K178. The commenter represents a production facility directly affected by the K178 listing. The commenter expresses support for the 1,000 pound RQ assigned to the K178 listed hazardous waste and believes that the basis for the adjustment (RQ for thallium) is sound for use in the establishment of the 1,000-pound RQ. Because the individual containers of K178 hazardous wastes used for accumulation and transportation to an off-site RCRA hazardous waste treatment facility will contain more than 1,000 pounds, the commenter also requests that EPA discuss, “the proper application, with examples, of the CERCLA RQ mixture rule to listed wastes such as K178.”

¹⁵ You can view the full comment (email) by going to: www.regulations.gov, clicking on “Advanced Search” in the bar at the top of the page, then “Document Search.” Search for the document, “EPA-HQ-SFUND-2002-0011-0018.”

b. Response to Comment—Application of Mixture Rule to Listed Wastes

As described above (see section III.D.2.b.), where the person in charge has knowledge of the specific constituent mix of the hazardous waste stream, it may be appropriate to use the mixture rule to determine whether there has been a release above an RQ for that waste stream consistent with the known constituent mixture of the hazardous waste stream. For example, for the inorganic chemical manufacturing process waste stream K178, the RQ is based on the constituent thallium; however, there are other constituents (nonhazardous) that make up the waste stream. If the person in charge knows the relative amounts of thallium to nonhazardous constituents in his waste stream, it may be appropriate to use the mixture rule for RQ purposes for that waste stream. It is important to note that attenuation of the waste stream for the purpose of diluting the relative amount of thallium is inconsistent with the intent of the mixture rule.

IV. Statutory and Regulatory Reviews

A. Executive Order 12866: Regulatory Planning and Review

This action is not a “significant regulatory action” under the terms of Executive Order (EO) 12866 (58 FR 51735, October 4, 1993) and is therefore not subject to the review under the EO.

B. Paperwork Reduction Act

This action does not impose any new information collection burden. This final rule represents a reduction in the burden for both industry and the government because we are raising the RQs for all but two of the substances included in this final rule. The Office of Management and Budget (OMB) has previously approved the information collection requirements contained in the existing regulations 40 CFR 302 and 40 CFR 355 under the provisions of the Paperwork Reduction Act, 44 U.S.C. 3501 et seq. and has assigned OMB control number 2050-0046, EPA ICR number 1049.10 and OMB control number 2050-0086, EPA ICR number 1445.06. A copy of the OMB approved Information Collection Requests (ICRs) may be obtained from Susan Auby, Collection Strategies Division; U.S. Environmental Protection Agency (2822T); 1200 Pennsylvania Ave., NW., Washington, DC 20460 or by calling (202) 566-1672.

The proposed rule estimated that the annual reporting and recordkeeping burdens associated with reports to the NRC will be reduced by approximately 720 hours (ICR No. 1049.09) and to SERCs and LEPCs by 880 hours (ICR No. 1395.04). That estimate was based on reports received for the period 1995 through 1999. Based on the period 2000 through 2002 (there was only one reported release) the estimated annual reporting and recordkeeping burdens associated with reports to the NRC will be reduced by 3 hours and to SERCs and LEPCs by 9 hours.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR are listed in 40 CFR part 9.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this rule on small entities, small entity is defined as: (1) A small business that has fewer than 1000 or 100 employees per firm depending upon the SIC code the firm primarily is classified; (2) a small governmental jurisdiction that is a government of a city, county, town, school district or special district with a population of less than 50,000; and (3) a small organization that is any not-for-profit enterprise which is independently owned and operated and is not dominant in its field.

After considering the economic impacts of this final rule on small entities, I hereby certify that this action will not have a significant economic impact on a substantial number of small entities. In determining whether a rule has a significant economic impact on a substantial number of small entities, the impact of concern is any significant adverse economic impact on small entities, since the primary purpose of the regulatory flexibility analyses is to identify and address regulatory alternatives “which minimize any significant economic impact of the proposed rule on small entities.” 5 U.S.C. 603 and 604. Thus, an agency may certify that a rule will not have a significant economic impact on a substantial number of small entities if the rule relieves regulatory burden, or otherwise has a positive economic effect on all of the small entities subject to the rule.

We have therefore concluded that this final rule will relieve regulatory burden for small entities.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials to have meaningful and timely input in the development of EPA regulatory proposals with significant Federal intergovernmental mandates, and informing, educating, and advising small governments on compliance with the regulatory requirements.

This rule contains no Federal mandates (under the regulatory provisions of Title II of the UMRA) for State, local or tribal governments or the private sector. The rule imposes no enforceable duty on any State, local, or tribal governments. EPA also has determined that this rule contains no regulatory requirements that might significantly or uniquely affect small governments. In addition, as discussed above, the private sector is not expected to incur costs exceeding $100 million. Thus, this final rule is not subject to the requirements of Sections 202 and 205 of UMRA.

E. Executive Order 13132: Federalism

Executive Order 13132, entitled “Federalism” (64 FR 43255, Aug. 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule does not have federalism implications. It will not have substantial direct effects on the States, on the relationship between the national government and the States, or on the distribution of power and responsibilities among the various levels of government, as specified in Executive Order 13132. This rule directly affects manufacturers, handlers, transporters, and other users of carbamates that may release them into the environment; in addition, entities that may release K178 hazardous waste will also be affected. There are no State and local government bodies that incur direct compliance costs by this rulemaking. Thus, Executive Order 13132 does not apply to this rule.

In the spirit of Executive Order 13132, and consistent with EPA policy to promote communications between EPA and State and local governments, EPA specifically solicited comment on the proposed rule from State and local officials.

F. Executive Order 13175: Consultation and Coordination With Indian Tribal Governments

Executive Order 13175, entitled “Consultation and Coordination with Indian Tribal Governments” (65 FR 67249, Nov. 9, 2000), requires EPA to develop an accountable process to ensure “meaningful and timely input by tribal officials in the development of regulatory policies that have tribal implications.” This final rule does not have tribal implications, as specified in Executive Order 13175. This rule does not significantly or uniquely affect the communities of Indian tribal governments, nor would it impose substantial direct compliance costs on them. Thus, Executive Order 13175 does not apply to this rule.

G. Executive Order 13045: Protection of Children From Environmental Health and Safety Risks

The Executive Order 13045: “Protection of Children From Environmental Health Risks and Safety Risks” (62 FR 19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This final rule is not subject to the Executive Order because it is not economically significant as defined in Executive Order 12866, and because the Agency does not have reason to believe the environmental health or safety risks addressed by this action present a disproportionate risk to children.

H. Executive Order 13211: Energy Effects

This rule is not subject to Executive Order 13211, “Actions Concerning Regulations That Significantly Affect Energy Supply, Distribution, or Use” (66 FR 28355, May 22, 2001) because it is not a significant regulatory action under Executive Order 12866.

I. National Technology Transfer and Advancement Act

As noted in the proposed rule, Section 12(d) of the National Technology Transfer and Advancement Act of 1995 (“NTTAA”), Public Law. No. 104-113, 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

The action does not involve technical standards. Therefore, EPA did not consider the use of any voluntary consensus standards.

J. The Congressional Review Act (5 U.S.C. 801 et seq., as Added by the Small Business Regulatory Enforcement Fairness Act of 1996)

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA submitted a report containing this final rule, and other required information, to the U.S. Senate, the U.S. House of Representatives, and the Comptroller General of the United States prior to publication in the Federal Register. A major rule cannot take effect until 60 days after it is published in the Federal Register. This action is not a “major rule” as defined by 5 U.S.C. 804(2). This rule will be effective September 15, 2006.

List of Subjects

40 CFR Part 302

Environmental protection, Air pollution control, Chemicals, Hazardous substances, Hazardous waste, Intergovernmental relations, Natural resources, Reporting and recordkeeping requirements, Superfund, Water pollution control, Water supply.

40 CFR Part 355

Environmental protection, Air pollution control, Disaster assistance, Hazardous substances, Hazardous waste, Intergovernmental relations, Natural resources, Penalties, Reporting and recordkeeping requirements, Superfund, Water pollution control, Water supply.

Dated: August 9, 2006.
Stephen L. Johnson,
Administrator.

For the reasons set out in the preamble, title 40, chapter I of the Code of Federal Regulations is amended as follows:

PART 302—DESIGNATION, REPORTABLE QUANTITIES, AND NOTIFICATION

1. The authority citation for part 302 continues to read as follows:

Authority: 42 U.S.C. 9602, 9603, 9604; 33 U.S.C. 1321 and 1361.

2. Table 302.4 in § 302.4 is amended by removing the following entries: “1,3-Benzodioxol-4-ol, 2,2-dimethyl-, (Bendiocarb phenol)”, “1,3-Benzodioxol-4-ol, 2,2-dimethyl-, methyl carbamate (Bendiocarb)”, “7-Benzofuranol, 2,3-dihydro-2,2-dimethyl-(Carbofuran phenol)”, “Benzoic acid, 2-hydroxy-, compd. with (3aS-cis)-1,2,3,3a,8,8a-hexahydro-1,3a,8-trimethylpyrrolo[2,3b]indol-5-yl methylcarbamate ester (1:1) (Physostigmine salicylate)”, “Carbamic acid, 1H-benzimidazol-2-yl, methyl ester (Carbendazim)”, “Carbamic acid, [1-[(butylamino)carbonyl]-1H-benzimidazol-2-yl, methyl ester (Benomyl)”, “Carbamic acid, (3-chlorophenyl)-, 4-chloro-2-butynyl ester (Barban)”, “Carbamic acid, [(dibutylamino)thio]methyl-, 2,3-dihydro-2,2-dimethyl-7benzofuranyl ester (Carbosulfan)”, “Carbamic acid, dimethyl-,1[(dimethylamino)carbonyl]-5-methyl-1H-pyrazol-3-yl ester (Dimetilan)”, “Carbamic acid, dimethyl-, 3-methyl-1-(1methylethyl)-1H-pyrazol-5-yl ester (Isolan)”, “Carbamic acid, methyl-, 3-methylphenyl ester (Metolcarb)”, “Carbamic acid, [1,2phenylenebis (iminocarbonothioyl)]bis-, dimethyl ester (Thiophanate-methyl)”, “Carbamic acid, phenyl-, 1-methylethyl ester (Propham)”, “Carbamothioic acid, bis(1-methylethyl)-, S-(2,3,3-trichloro-2-propenyl) ester (Triallate)”, “Carbamothioic acid, dipropyl-, S-(phenylmethyl) ester (Prosulfocarb)”, “1,3-Dithiolane-2-carboxaldehyde, 2,4-dimethyl-, O-[(methylamino)carbonyl]oxime (Tirpate)”, “Ethanimidothioci acid, 2-(dimethylamino-N-hydroxy-2-oxo-, methyl ester (A2213)”, “Ethanimidothoic acid, 2-(dimethylamino)-N-[[(methylamino)carbonyl]oxy]-2-oxo-, methyl ester (Oxamyl)”, “Ethanimidothioic acid, N,N'-[thiobis[(methylimino) carbonyloxy]]bis-, dimethyl ester (Thiodicarb)”, “Ethanol, 2,2'oxybis-, dicarbamate (Diethylene glycol, dicarbamate)”, “Manganese, bis(dimethylcarbamodithioato-S,S')-(Manganese dimethyldithiocarbamate)”, “Methanimidamide, N,N-dimethyl-N'-[3-[[(methylamino)carbonyl]oxy]phenyl]-, monohydrochloride (Formetanate hydrochloride)”, “Methanimidamide, N,N-dimethyl-N'-[2-methyl-4-[[(methylamino)carbonyl]oxy]phenyl]-(Formparanate)”, “Phenol, 3-(l-methylethyl)-, methyl carbamate (m-Cumenyl methylcarbamate)”, “Phenol, 3-methyl-5-(l-methylethyl)-, methyl carbamate (Promecarb)”, “Propanal, 2-methyl-2-(methylsulfonyl)-, O-[(methylamino)carbonyl] oxime (Aldicarb sulfone)”, “Pyrrolo[2,3-b]indol-5-ol, 1,2,3,3a,8,8a-hexahydro-1,3a,8-trimethyl-, methylcarbamate (ester), (3aS-cis)-(Physostigmine)”, “Zinc, bis(dimethylcarbamodithioato-S,S')-(Ziram)”, “K156”, “K157”, “K158”, “K159”, “K161”, and K178”.

3. Table 302.4 in § 302.4 is amended by adding the following new entries in alphabetical order, as set forth below (applicable footnotes have been republished without change):

Table 302.4.—List of Hazardous Substances and Reportable Quantities
[Note: All comments/notes are located at the end of this table]
Hazardous substance | CASRN | Statutory code† | RCRA waste No. | Final RQ pounds (Kg)
A2213 | 30558431 | 4 | U394 | 5000 (2270)
* * * * * * *
Aldicarb sulfone | 1646884 | 4 | P203 | 100 (45.4)
* * * * * * *
Barban | 101279 | 4 | U280 | 10 (4.54)
* * * * * * *
Bendiocarb | 22781233 | 4 | U278 | 100 (45.4)
Bendiocarb phenol | 22961826 | 4 | U364 | 1000 (454)
Benomyl | 17804352 | 4 | U271 | 10 (4.54)
* * * * * * *
1,3-Benzodioxol-4-ol, 2,2-dimethyl- | 22961826 | 4 | U364 | 1000 (454)
1,3-Benzodioxol-4-ol, 2,2-dimethyl-, methyl carbamate | 22781233 | 4 | U278 | 100 (45.4)
* * * * * * *
7-Benzofuranol, 2,3-dihydro-2,2-dimethyl- | 1563388 | 4 | U367 | 10 (4.54)
* * * * * * *
Benzoic acid, 2-hydroxy-, compd. with (3aS-cis)-1,2,3,3a,8,8a-hexahydro-1,3a,8-trimethylpyrrolo[2,3-b]indol-5-yl methylcarbamate ester (1:1) | 57647 | 4 | P188 | 100 (45.4)
* * * * * * *
Carbamic acid, 1H-benzimidazol-2-yl, methyl ester | 10605217 | 4 | U372 | 10 (4.54)
Carbamic acid, [1-[(butylamino)carbonyl]-1H-benzimidazol-2-yl]-,methyl ester | 17804352 | 4 | U271 | 10 (4.54)
Carbamic acid, (3-chlorophenyl)-, 4-chloro-2-butynyl ester | 101279 | 4 | U280 | 10 (4.54)
Carbamic acid, [(dibutylamino)-thio]methyl-, 2,3-dihydro-2,2-dimethyl-7-benzofuranyl ester | 55285148 | 4 | P189 | 1000 (454)
Carbamic acid, dimethyl-,1-[(dimethyl-amino)carbonyl]-5-methyl-1H-pyrazol-3-yl ester | 644644 | 4 | P191 | 1 (0.454)
Carbamic acid, dimethyl-, 3-methyl-1-(1-methylethyl)-1H-pyrazol-5-yl ester | 119380 | 4 | P192 | 100 (45.4)
* * * * * * *
Carbamic acid, methyl-, 3-methylphenyl ester | 1129415 | 4 | P190 | 1000 (454)
* * * * * * *
Carbamic acid, [1,2-phenylenebis(iminocarbonothioyl)]bis-, dimethyl ester | 23564058 | 4 | U409 | 10 (4.54)
Carbamic acid, phenyl-, 1-methylethyl ester | 122429 | 4 | U373 | 1000 (454)
* * * * * * *
Carbamothioic acid, bis(1-methylethyl)-, S-(2,3,3-trichloro-2-propenyl) ester | 2303175 | 4 | U389 | 100 (45.4)
Carbamothioic acid, dipropyl-, S-(phenylmethyl) ester | 52888809 | 4 | U387 | 5000 (2270)
Carbendazim | 10605217 | 4 | U372 | 10 (4.54)
Carbofuran phenol | 1563388 | 4 | U367 | 10 (4.54)
* * * * * * *
Carbosulfan | 55285148 | 4 | P189 | 1000 (454)
* * * * * * *
m-Cumenyl methylcarbamate | 64006 | 4 | P202 | 10 (4.54)
* * * * * * *
Diethylene glycol, dicarbamate | 5952261 | 4 | U395 | 5000 (2270)
* * * * * * *
Dimetilan | 644644 | 4 | P191 | 1 (0.454)
* * * * * * *
1,3-Dithiolane-2-carboxaldehyde, 2,4-dimethyl-, O-[(methylamino)-carbonyl]oxime | 26419738 | 4 | P185 | 100 (45.4)
* * * * * * *
Ethanimidothioic acid, 2-(dimethylamino)-N-hydroxy-2-oxo-, methyl ester | 30558431 | 4 | U394 | 5000 (2270)
Ethanimidothioic acid, 2-(dimethylamino)-N-[[(methylamino)carbonyl]oxy]-2-oxo-, methyl ester | 23135220 | 4 | P194 | 100 (45.4)
* * * * * * *
Ethanimidothioic acid, N,N'- [thiobis[(methylimino) carbonyloxy]]bis-, dimethyl ester | 59669260 | 4 | U410 | 100 (45.4)
* * * * * * *
Ethanol, 2,2'-oxybis-, dicarbamate | 5952261 | 4 | U395 | 5000 (2270)
* * * * * * *
Formetanate hydrochloride | 23422539 | 4 | P198 | 100 (45.4)
* * * * * * *
Formparanate | 17702577 | 4 | P197 | 100 (45.4)
* * * * * * *
Isolan | 119380 | 4 | P192 | 100 (45.4)
* * * * * * *
3-Isopropylphenyl N-methylcarbamate | 64006 | 4 | P202 | 10 (4.54)
* * * * * * *
Manganese, bis (dimethylcarbamodithioato-S,S')- | 15339363 | 4 | P196 | 10 (4.54)
* * * * * * *
Manganese dimethyldithiocarbamate | 15339363 | 4 | P196 | 10 (4.54)
* * * * * * *
Methanimidamide, N,N-dimethyl-N'-[3-[[(methylamino)-carbonyl]oxy]phenyl]-, monohydrochloride | 23422539 | 4 | P198 | 100 (45.4)
Methanimidamide, N,N-dimethyl-N'-[2-methyl-4- [[(methylamino) carbonyl]oxy]phenyl]- | 17702577 | 4 | P197 | 100 (45.4)
* * * * * * *
Metolcarb | 1129415 | 4 | P190 | 1000 (454)
* * * * * * *
Oxamyl | 23135220 | 4 | P194 | 100 (45.4)
* * * * * * *
Phenol, 3-(1-methylethyl)-, methyl carbamate | 64006 | 4 | P202 | 10 (4.54)
Phenol, 3-methyl-5-(1-methylethyl)-, methyl carbamate | 2631370 | 4 | P201 | 1000 (454)
* * * * * * *
Physostigmine | 57476 | 4 | P204 | 100 (45.4)
Physostigmine salicylate | 57647 | 4 | P188 | 100 (45.4)
* * * * * * *
Promecarb | 2631370 | 4 | P201 | 1000 (454)
* * * * * * *
Propanal, 2-methyl-2-(methyl- sulfonyl)-, O-[(methylamino)carbonyl] oxime | 1646884 | 4 | P203 | 100 (45.4)
* * * * * * *
Propham | 122429 | 4 | U373 | 1000 (454)
* * * * * * *
Prosulfocarb | 52888809 | 4 | U387 | 5000 (2270)
* * * * * * *
Pyrrolo[2,3-b]indol-5-ol, 1,2,3,3a,8,8a- hexahydro-1,3a,8-trimethyl-, methylcarbamate (ester), (3aS-cis)- | 57476 | 4 | P204 | 100 (45.4)
* * * * * * *
Thiodicarb | 59669260 | 4 | U410 | 100 (45.4)
* * * * * * *
Thiophanate-methyl | 23564058 | 4 | U409 | 10 (4.54)
* * * * * * *
Tirpate | 26419738 | 4 | P185 | 100 (45.4)
* * * * * * *
Triallate | 2303175 | 4 | U389 | 100 (45.4)
* * * * * * *
Zinc, bis(dimethylcarbamodithioato-S,S')- | 137304 | 4 | P205 | 10 (4.54)
* * * * * * *
Ziram | 137304 | 4 | P205 | 10 (4.54)
* * * * * * *
K156 |  | 4 | K156 | 10 (4.54)
Organic waste (including heavy ends, still bottoms, light ends, spent solvents, filtrates, and decantates) from the production of carbamates and carbamoyl oximes. (This listing does not apply to wastes generated from the manufacture of 3-iodo-2-propynyl n-butylcarbamate.)
K157 |  | 4 | K157 | 10 (4.54)
Wastewaters (including scrubber waters, condenser waters, washwaters, and separation waters) from the production of carbamates and carbamoyl oximes. (This listing does not apply to wastes generated from the manufacture of 3-iodo-2-propynyl n-butylcarbamate.)
K158 |  | 4 | K158 | 10 (4.54)
Bag house dusts and filter/separation solids from the production of carbamates and carbamoyl oximes. (This listing does not apply to wastes generated from the manufacture of 3-iodo-2-propynyl n-butylcarbamate.)
K159 |  | 4 | K159 | 10 (4.54)
Organics from the treatment of thiocarbamate wastes.
K161 |  | 4 | K161 | 1 (0.454)
Purification solids (including filtration, evaporation, and centrifugation solids), bag-house dust and floor sweepings from the production of dithiocarbamate acids and their salts. (This listing does not include K125 or K126).
* * * * * * *
K178 |  | 4 | K178 | 1000 (454)
Residues from manufacturing and manufacturing-site storage of ferric chloride from acids formed during the production of titanium dioxide using the chloride-ilmenite process.
† Indicates the statutory source as defined by 1, 2, 3, and 4, as described in the note preceding Table 302.4.

* * * * *

4. Appendix A to § 302.4 is amended by revising the following entries, as set forth below:

Appendix A to § 302.4.—Sequential CAS Registry Number List of CERCLA Hazardous Substances
CASRN | Hazardous substance
* * * * * * * *
57476 | Physostigmine. Pyrrolo[2,3-b]indol-5-ol, 1,2,3,3a,8,8a-hexahydro-1,3a,8-trimethyl-, methylcarbamate (ester), (3aS-cis)-.
57647 | Benzoic acid, 2-hydroxy-, compd. with (3aS-cis)-1,2,3,3a,8,8a-hexahydro-1,3a,8-trimethylpyrrolo[2,3-b]indol-5-yl methylcarbamate ester (1:1). Physostigmine salicylate.
* * * * * * *
64006 | m-Cumenyl methylcarbamate. 3-Isopropylphenyl N-methylcarbamate. Phenol, 3-(1-methylethyl)-, methyl carbamate.
* * * * * * *
101279 | Barban. Carbamic acid, (3-chlorophenyl)-, 4-chloro-2-butynyl ester.
* * * * * * *
119380 | Carbamic acid, dimethyl-, 3-methyl-1-(1-methylethyl)-1H-pyrazol-5-yl ester. Isolan.
* * * * * * *
122429 | Carbamic acid, phenyl-, 1-methylethyl ester. Propham.
* * * * * * *
137304 | Zinc, bis(dimethylcarbamodithioato-S,S')-. Ziram.
* * * * * * *
644644 | Carbamic acid, dimethyl-,1-[(dimethyl-amino)carbonyl]-5-methyl-1H-pyrazol-3-yl ester. Dimetilan.
* * * * * * *
1129415 | Carbamic acid, methyl-, 3-methylphenyl ester. Metolcarb.
* * * * * * *
1563388 | 7-Benzofuranol, 2,3-dihydro-2,2-dimethyl-. Carbofuran phenol.
* * * * * * *
1646884 | Aldicarb sulfone. Propanal, 2-methyl-2-(methyl-sulfonyl)-, O-[(methylamino)carbonyl] oxime.
* * * * * * * *
2303175 | Carbamothioic acid, bis(1-methylethyl)-, S-(2,3,3-trichloro-2-propenyl) ester. Triallate.
* * * * * * *
2631370 | Phenol, 3-methyl-5-(1-methylethyl)-, methyl carbamate. Promecarb.
* * * * * * *
5952261 | Ethanol, 2,2'-oxybis-, dicarbamate. Diethylene glycol, dicarbamate.
* * * * * * *
10605217 | Carbamic acid, 1H-benzimidazol-2-yl, methyl ester. Carbendazim.
* * * * * * *
15339363 | Manganese, bis(dimethylcarbamodithioato-S,S')-. Manganese dimethyldithiocarbamate.
* * * * * * *
17702577 | Formparanate. Methanimidamide, N,N-dimethyl-N'-[2-methyl-4-[[(methylamino)carbonyl]oxy]phenyl]-.
17804352 | Benomyl. Carbamic acid, [1-[(butylamino)carbonyl]-1H-benzimidazol-2-yl]-, methyl ester.
* * * * * * *
22781233 | Bendiocarb. 1,3-Benzodioxol-4-ol, 2,2-dimethyl-, methyl carbamate.
22961826 | Bendiocarb phenol. 1,3-Benzodioxol-4-ol, 2,2-dimethyl-.
23135220 | Ethanimidothioic acid, 2-(dimethylamino)-N-[[(methylamino)carbonyl]oxy]-2-oxo-, methyl ester. Oxamyl.
23422539 | Methanimidamide, N,N-dimethyl-N'-[3-[[(methylamino)-carbonyl]oxy]phenyl]-, monohydrochloride. Formetanate hydrochloride.
23564058 | Carbamic acid, [1,2-phenylenebis(iminocarbonothioyl)]bis-, dimethyl ester. Thiophanate-methyl.
* * * * * * *
26419738 | 1,3-Dithiolane-2-carboxaldehyde, 2,4-dimethyl-, O-[(methylamino)-carbonyl]oxime. Tirpate.
* * * * * * *
30558431 | Ethanimidothioic acid, 2-(dimethylamino)-N-hydroxy-2-oxo-, methyl ester. A2213.
* * * * * * *
52888809 | Carbamothioic acid, dipropyl-, S-(phenylmethyl) ester. Prosulfocarb.
* * * * * * *
55285148 | Carbamic acid, [(dibutylamino)-thio]methyl-, 2,3-dihydro-2,2-dimethyl-7-benzofuranyl ester. Carbosulfan.
* * * * * * *
59669260 | Ethanimidothioic acid, N,N'-[thiobis[(methylimino)carbonyloxy]]bis-, dimethyl ester. Thiodicarb.
* * * * * * *

PART 355—EMERGENCY PLANNING AND NOTIFICATION

5. The authority citation for part 355 continues to read as follows:

Authority: 42 U.S.C. 11002, 11004, and 11048.

6. Appendix A in part 355 is amended by revising the following entries, to read as set forth below (footnotes “*” and “h” have been republished without change):

Appendix A To Part 355.—The List of Extremely Hazardous Substances and Their Threshold Planning Quantities
[Alphabetical order]
CAS No. | Chemical name | Notes | Reportable quantity* (pounds) | Threshold planning quantity (pounds)
* * * * * * *
26419-73-8 | Carbamic Acid, Methyl-, O-(((2,4-Dimethyl-1, 3-Dithiolan-2-yl)Methylene)Amino)- |  | 100 | 100/10,000
* * * * * * *
644-64-4 | Dimetilan |  | 1 | 500/10,000
* * * * * * *
23422-53-9 | Formetanate Hydrochloride | (ʰ) | 100 | 500/10,000
* * * * * * *
17702-57-7 | Formparanate |  | 100 | 100/10,000
* * * * * * *
119-38-0 | Isopropylmethyl-pyrazolyl Dimethylcarbamate |  | 100 | 500
* * * * * * *
1129-41-5 | Metolcarb |  | 1,000 | 100/10,000
* * * * * * *
23135-22-0 | Oxamyl |  | 100 | 100/10,000
* * * * * * *
64-00-6 | Phenol, 3-(1-Methylethyl)-, Methylcarbamate |  | 10 | 500/10,000
* * * * * * *
57-47-6 | Physostigmine |  | 100 | 100/10,000
57-64-7 | Physostigmine, Salicylate (1:1) |  | 100 | 100/10,000
* * * * * * *
2631-37-0 | Promecarb | (ʰ) | 1,000 | 500/10,000
* * * * * * *
* Only the statutory or final RQ is shown. For more information, see 40 CFR Table 302.4.

Notes:

* * * * *

ʰ Revised TPQ based on new or re-evaluated toxicity data.

* * * * *

7. Appendix B in part 355 is amended by revising the following entries, to read as set forth below (footnotes “*” and “h” have been republished without change):

Appendix B To Part 355.—The List of Extremely Hazardous Substances and Their Threshold Planning Quantities
[CAS number order]
CAS No. | Chemical name | Notes | Reportable quantity* (pounds) | Threshold planning quantity (pounds)
* * * * * * *
57-47-6 | Physostigmine |  | 100 | 100/10,000
* * * * * * *
57-64-7 | Physostigmine, Salicylate (1:1) |  | 100 | 100/10,000
* * * * * * *
64-00-6 | Phenol, 3-(1-Methylethyl)-, Methylcarbamate |  | 10 | 500/10,000
* * * * * * *
119-38-0 | Isopropylmethyl-pyrazolyl Dimethylcarbamate |  | 100 | 500
* * * * * * *
644-64-4 | Dimetilan |  | 1 | 500/10,000
* * * * * * *
1129-41-5 | Metolcarb |  | 1,000 | 100/10,000
* * * * * * *
2631-37-0 | Promecarb | (ʰ) | 1,000 | 500/10,000
* * * * * * *
17702-57-7 | Formparanate |  | 100 | 100/10,000
* * * * * * *
23135-22-0 | Oxamyl |  | 100 | 100/10,000
23422-53-9 | Formetanate Hydrochloride | (ʰ) | 100 | 500/10,000
* * * * * * *
26419-73-8 | Carbamic Acid, Methyl-, O-(((2,4-Dimethyl-1, 3-Dithiolan-2-yl)Methylene)Amino)- |  | 100 | 100/10,000
* * * * * * *

*Only the statutory or final RQ is shown. For more information, see 40 CFR Table 302.4.

Notes:

* * * * *

ʰ Revised TPQ based on new or re-evaluated toxicity data.

* * * * *

[FR Doc. E6-13491 Filed 8-15-06; 8:45 am]

BILLING CODE 6560-50-P